DEPARTMENT OF LABOR

Bureau of Labor Statistics

Technical Advisory Committee; Request for Nominations

AGENCY: Bureau of Labor Statistics (BLS).

ACTION: Request for nominations to the BLS Technical Advisory Committee.

SUMMARY: The BLS is soliciting new members for the BLS Technical Advisory Committee (BLSTAC). The Committee presents advice and makes recommendations to the BLS on technical aspects of the collection and formulation of economic measures. The Committee functions solely as an advisory body to the BLS, on technical topics selected by the BLS.

The Committee consists of approximately sixteen members who serve as Special Government Employees. Members are appointed by the BLS and are approved by the Secretary of Labor. Committee members are economists, statisticians, and behavioral scientists and are chosen to achieve a balanced membership across those disciplines. They are prominent experts in their fields and recognized for their professional achievements and objectivity. BLS invites nominations for consideration for committee membership. Interested persons may nominate themselves or may submit the name of another person who they believe to be interested in and qualified to serve on the BLSTAC. Nominations may also be submitted by organizations.

DATES: Nominations for the BLSTAC membership should be postmarked by October 10, 2014.

ADDRESSES: Nominations for the BLSTAC membership should be sent to: Commissioner Erica Groshen, U.S. Bureau of Labor Statistics, 2 Massachusetts Avenue NE., Room 4040, Washington, DC 20212.

FOR FURTHER INFORMATION CONTACT: Lisa Fieldhouse, U.S. Bureau of Labor Statistics, 2 Massachusetts Avenue NE., Office of Productivity and Technology, Room 2150. Washington, DC 20212. Telephone: (202) 691-5025. This is not a toll free number.

SUPPLEMENTARY INFORMATION: BLS intends to appoint members to three-year terms. The Bureau often faces highly technical issues while developing and maintaining the accuracy and relevancy of its data on employment and unemployment, prices, productivity, and compensation and working conditions. These issues range from how to develop new measures to how to make sure that existing measures account for the ever changing economy. The BLS presents issues and then draws on the specialized expertise of Committee members representing specialized fields within the academic disciplines of economics, statistics and survey design. Nominations: BLS is looking for committed BLSTAC members who have significant knowledge of BLS data. The economists will have research experience with technical issues related to BLS data and will be familiar with employment and unemployment statistics, price index numbers, compensation measures, productivity measures, occupational and health statistics, or other topics relevant to BLS data series. The statisticians will be familiar with sample design, data analysis, computationally intensive statistical methods, non-sampling errors or other areas which are relevant to BLS work. The behavioral scientists will be familiar with questionnaire design, usability or other areas of survey development. The members of the panel will collectively provide a balance of expertise in all of these areas. The U.S. Bureau of Labor Statistics is committed to bringing greater diversity of thought, perspective, and experience to its advisory committees. Nominees of all age, disability, ethnicity, gender, race, and sexual orientation are encouraged to apply. Nominations should include the name, address, and telephone number of the candidate. Each nomination should include a summary of the candidate's training or experience relating to BLS data. BLS will conduct a basic background check of candidates before their appointment to the BLSTAC. The background check will involve accessing publicly available, Internet based sources.

Authority: This notice was prepared in accordance with the provisions of the Federal Advisory Committee Act (FACA), 5 U.S.C. App. 2. The Secretary of Labor has determined that the Bureau of Labor Statistics Technical Advisory Committee is in the public interest in connection with the performance of duties imposed upon the Commissioner of Labor Statistics by 29 U.S.C. 1 and 2. This determination follows consultation with the Committee Management Secretariat, General Services Administration.

Signed at Washington, DC, this 22nd day of September, 2014.
Kimberley Hill,
Chief, Division of Management Systems, Bureau of Labor Statistics.

[FR Doc. 2014-22955 Filed 9-25-14; 8:45 am]

BILLING CODE 4510-24-P